DEPARTMENT OF THE INTERIOR

Bureau of Land Management

[LLNVC03300. L58740000. EU0000. LXSS060F0000; N-82710; 9-08807; TAS14X5260]

Notice of Realty Action: Competitive Sale of Public Land near Fernley in Lyon County, NV

AGENCY: Bureau of Land Management, Interior.

ACTION: Notice of Realty Action.

SUMMARY: The Bureau of Land Management (BLM) proposes to offer one parcel of public land of approximately 628.2 acres in northern Lyon County by competitive sale at not less than the fair market value (FMV). The sale will be subject to the applicable provisions of Sections 203 and 209 of the Federal Land Policy and Management Act of 1976 (FLPMA), and the BLM land sale and mineral conveyance regulations.

DATES: Interested parties may submit written comments regarding the proposed sale of public land until January 15, 2010. The proposed sale date is to be announced and it will not be before February 1, 2010.

ADDRESSES: Mail written comments to BLM Field Manager, Sierra Front Field Office, Carson City District Office, 5665 Morgan Mill Road, Carson City, NV 89701.

FOR FURTHER INFORMATION CONTACT: J. Fred Slagle at (775) 885-6115.

SUPPLEMENTARY INFORMATION: The sale parcel is approximately two miles southwest from downtown Fernley, Nevada and is legally described as:

Mount Diablo Meridian

T. 20 N., R. 24 E.,

Sec. 22, lots 1 to 6, inclusive, NE¼, E½NW¼, E½SW¼, and W½SE¼.

The area described contains 628.2 acres, more or less, in Lyon County.

An appraisal report will be prepared by a State certified appraiser for the purposes of establishing FMV. Other terms and conditions specific to the competitive sale process, this parcel, and the FMV will be published in the marketing brochure and in advertisements when the land is offered for sale.

The public land is not required for any Federal purpose. This public sale is in conformance with the 2001 BLM Carson City Consolidated Resource Management Plan approved May 9, 2001. The parcel meets the disposal qualification of Section 205 of the Federal Land Transaction Facilitation Act of July 25, 2000 (FLTFA), (43 U.S.C. 2304). The proceeds from the sale of the land will be deposited into the Federal Land Disposal Account for Nevada pursuant to FLTFA. Under FLTFA, four percent of the land sale proceeds go to the State of Nevada for education, 80 percent of the remaining proceeds are used to acquire environmentally-sensitive land, and 20 percent of the remaining proceeds are reserved for land disposal administration costs.

The land meets the criteria for sale under 43 CFR 2710.0-3(a)(3), as the sale of the parcel, because of its location or other characteristics, is difficult and uneconomic to manage as part of the public lands and is not suitable for management by another Federal department or agency. The land is intermingled with private land, which makes it difficult to manage for any Federal purpose. This land contains no other known public values. The subject parcel has not been identified for transfer to the State or any other local government or nonprofit organization. The parcel will be offered through competitive sale procedures pursuant to 43 CFR 2711.3-1.

Terms and Conditions: A mineral potential evaluation was completed for public land within the sale area and no known mineral values were identified. All mineral rights will be conveyed and no minerals will be reserved. Agreement to purchase the land will constitute an application for conveyance of the mineral estate in accordance with Section 209 of the Federal Land Policy Management Act (FLPMA). The designated buyer must include with their purchase payment a nonrefundable $50 filing fee for the conveyance of the mineral estate. Payment must be submitted in the form of a certified check, postal money order, bank draft, or cashier's check made payable in U.S. dollars to the “Department of the Interior—Bureau of Land Management.”

The following terms and conditions will appear in the conveyance document for this parcel:

A right-of-way is reserved for ditches and canals constructed by authority of the United States under the Act of August 30, 1890 (43 U.S.C. 945);

The parcel is subject to:

1. Valid existing rights;

2. Right-of-Way N-08162 for power line purposes granted to Sierra Pacific Power Company, its successors or assigns, pursuant to the Act of March 4, 1911 (43 U.S.C. 961);

3. Right-of-Way N-39957 for road purposes granted to Lyon County, its successors or assigns, pursuant to the Act of October 21, 1976 (43 U.S.C. 1761);

4. Right-of-Way N-51242 for water storage tanks, road, water pipeline, and ancillary facility purposes granted to the City of Fernley, its successors or assigns, pursuant to the Act of October 21, 1976 (43 U.S.C. 1761);

5. Right-of-Way N-58193 for road and buried utility purposes granted to DB Fernley Investments, Ltd, its successors or assigns, pursuant to the Act of October 21, 1976 (43 U.S.C. 1761);

6. Rights-of-Way N-63393 and Nev-060169 for gas pipeline purposes granted to Paiute Pipeline Company, its successors or assigns, pursuant to the Act of February 25, 1920 (30 U.S.C. 185);

7. Right-of-Way N-73706 for communication purposes granted to Nevada Bell, its successors or assigns, pursuant to the Act of October 21, 1976 (43 U.S.C. 1761);

8. Right-of-Way N-75056 for gas pipeline purposes granted to Southwest Gas Corporation, its successors or assigns, pursuant to the Act of February 25, 1920 (30 U.S.C. 185);

9. Right-of-Way N-84710 for gas pipeline purposes granted to DB Fernley Investments, Ltd, its successors or assigns, pursuant to the Act of February 25, 1920 (30 U.S.C. 185). Holders of rights-of-way N-51242, N-58193, N-63393, and N-84710 have submitted applications to exercise term extension and conversion to easement opportunities. The land conveyance will be subject to these modifications.

10. The purchaser/patentee, by accepting patent, agrees to indemnify, defend, and hold the United States harmless from any costs, damages, claims, causes of action, penalties, fines, liabilities, and judgments of any kind arising from the past, present, or future acts or omissions of the patentee, its employees, agents, contractors, or lessees, or a third party arising out of, or in connection with, the patentee's use and/or occupancy of the patented real property. This indemnification and hold harmless agreement includes, but is not limited to, acts and omissions of the patentee, its employees, agents, contractors, or lessees, or third party arising out of or in connection with the use and/or occupancy of the patented real property resulting in:

(a) Violations of Federal, State, and local laws and regulations that are now, or in the future become, applicable to the real property;

(b) Judgments, claims, or demands of any kind assessed against the United States;

(c) Costs, expenses, or damages of any kind incurred by the United States;

(d) Releases or threatened releases of solid or hazardous waste(s) and/or hazardous substance(s), as defined by Federal or State environmental laws, off, on, into, or under land, property, and other interests of the United States;

(e) Other activities by which solid or hazardous substances or wastes, as defined by Federal and State environmental laws are generated, released, stored, used, or otherwise disposed of on the patented real property, and any cleanup response, remedial action, or other actions related in any manner to said solid or hazardous substances or wastes; or

(f) Natural resource damages as defined by Federal and State law. This covenant shall be construed as running with the patented real property and may be enforced by the United States in a court of competent jurisdiction.

11. Pursuant to the requirements established by Section 120(h) of the Comprehensive Environmental Response, Compensation and Liability Act (CERCLA) (42 U.S.C. 9620 et seq.), as amended by the Superfund Amendments and Reauthorization Act of 1988, (100 Stat. 1670), notice is hereby given that the above-described land has been examined and no evidence was found to indicate that any hazardous substances have been stored for 1 year or more, nor had any hazardous substances been disposed of or released on the subject property.

Encumbrances of record, appearing in the BLM public files for the parcel proposed for sale, are available during normal business hours at the BLM Carson City District Office.

No warranty of any kind, expressed or implied, is given by the United States as to the title, physical condition, or potential uses of the parcel of land proposed for sale, and the conveyance of any such parcel will not be on a contingency basis. It is the buyer's responsibility to be aware of all applicable Federal, State, or local government laws, regulations, or policies that may affect the subject lands or its future uses. It is also the buyer's responsibility to be aware of existing or prospective uses of nearby properties. Any land lacking access from a public road and highway will be conveyed as such, and future access acquisition will be the responsibility of the buyer.

Federal law requires that bidders must be

(1) United States citizens 18 years of age or older;

(2) A corporation subject to the laws of any State or of the United States;

(3) An entity including, but not limited to, associations or partnerships capable of acquiring and owning real property, or interests therein, under the laws of the State of Nevada; or

(4) A State, State instrumentality, or political subdivision authorized to acquire and own real property.

U.S. citizenship is evidenced by presenting a birth certificate, passport, or naturalization papers. Certification of bidder qualification must accompany the deposit.

Only written comments submitted by postal service or overnight mail will be considered properly filed. Electronic mail, facsimile or telephone comments will not be considered as properly filed.

Before including your address, phone number, e-mail address, or other personal identifying information in your comment, you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

(Authority: 43 CFR 2711)

Linda J. Kelly,
Field Manager, Sierra Front Field Office.

[FR Doc. E9-28721 Filed 11-30-09; 8:45 am]

BILLING CODE 4310-HC-P